ENVIRONMENTAL PROTECTION AGENCY

[FRL-7156-9]

EPA Science Advisory Board; Notification of Public Advisory Committee Meetings

Pursuant to the Federal Advisory Committee Act, Public Law 92-463, notice is hereby given of two meetings of the Multi-Agency Radiological Laboratory Analytical Protocols (MARLAP) Review Panel of the Radiation Advisory Committee (RAC) of the US EPA Science Advisory Board (SAB). The Panel will meet on the dates and times noted below. All times noted are Eastern Time. All meetings are open to the public, however, seating is limited and available on a first come basis. For teleconference meetings, available lines may also be limited. Important Notice: Documents that are the subject of SAB reviews are normally available from the originating EPA office and are not available from the SAB Office—information concerning availability of documents from the relevant Program Office is included below.

1. Multi-Agency Radiological Laboratory Analytical Protocols (MARLAP) Review Panel—April 8, 2002 Teleconference

The Multi-Agency Radiological Laboratory Analytical Protocols (MARLAP) Review Panel of the Radiation Advisory Committee (RAC) of the US EPA Science Advisory Board (SAB) (also referred to as the “Review Panel,” or “Panel”) will meet on Monday, April 8, 2002, via teleconference from 11:00 am to 1:00 pm Eastern Standard Time. This teleconference meeting will be hosted out of Conference Room 6013, USEPA, Ariel Rios Building North, 1200 Pennsylvania Avenue, NW, Washington, DC 20004. The meeting is open to the public, however, due to limited space, seating will be on a first-come basis—the public may also attend via telephone, however, lines may be limited. For further information concerning the meeting or how to obtain the phone number, please contact the individuals listed at the end of this FR notice.

Purpose of the Meeting

The purpose of this public teleconference meeting is to: (a) Discuss the charge and the adequacy of the review materials provided to the MARLAP Review Panel; (b) to clarify any questions and issues relating to the charge and the review materials; (c) to discuss specific charge assignments to the MARLAP Review Panelists; and (d) to clarify specific points of interest raised by the MARLAP Review Panelists in preparation for the face-to-face meeting to be held on April 23-25, 2002. This teleconference meeting of the Review Panel will provide focus on the charge and issues prior to the April 23-25, 2002 meeting of the Panel.

See below for availability of review materials, the charge to the review panel, and contact information.

2. Multi-Agency Radiological Laboratory Analytical Protocols (MARLAP) Review Panel—April 23-25, 2002 Meeting

The MARLAP Review Panel of the Radiation Advisory Committee's (RAC) of the US EPA Science Advisory Board (SAB) will conduct a public meeting on Tuesday, April 23 through Thursday, April 25, 2002. The meeting will begin on Tuesday, April 23, 2002 at 9:00 am and adjourn no later than 5:30 pm that day. On the subsequent days, the meeting may begin at 8:30 am and adjourn no later than 5:30 pm. The meeting will take place in EPA Hearing Room 1153 in the EPA East Headquarters Building, 1201 Pennsylvania Avenue, NW, Washington, DC 20004. “Break-out” sessions will be held in this conference room and adjoining rooms 1150A, 1151, and 1155, as appropriate. For further information concerning the meeting, please contact the individuals listed at the end of this FR notice.

The need for subsequent meetings of the MARLAP Review Panel will be discussed at this meeting and schedules of any future meetings to complete review of this topic will be discussed. Information concerning any future public meetings will appear in Federal Register notices as appropriate.

Purpose of the Meeting

The purpose of this meeting is to begin a review of the MARLAP document. In particular, the MARLAP Review Panel will: (1) Engage in dialogue with appropriate officials from the participating agencies, departments and commissions responsible for preparation and utilization of the MARLAP Manual; (2) begin to prepare responses to the charge questions (see below); (3) receive public comments as appropriate, and (4) plan and schedule subsequent meetings (if needed) to complete this review.

See below for availability of review materials, the charge to the review panel, and contact information for both meetings.

FOR FURTHER INFORMATION: Any member of the public wishing further information concerning these meetings or who wish to submit brief oral comments must contact Dr. K. Jack Kooyoomjian, Designated Federal Officer, MARLAP, USEPA Science Advisory Board (1400A), Suite 6450, 1200 Pennsylvania Avenue, NW, Washington, DC 20460; telephone/voice mail at (202) 564-4557; fax at (202) 501-0582; or via e-mail at kooyoomjian.jack@epa.gov. Requests for oral comments must be in writing (e-mail, fax or mail) and received by Dr. Kooyoomjian no later than noon Eastern Time five business days prior to the meeting date (April 1, 2002 and April 16, 2002, respectively, for the two meetings). See below for time limitations on public comments.

Members of the public desiring additional information about the meeting locations or the call-in number for the teleconference, must contact Ms. Mary Winston, Management Assistant, MARLAP, EPA Science Advisory Board (1400A), Suite 6450, U.S. EPA, 1200 Pennsylvania Avenue, NW, Washington, DC 20460; telephone/voice mail at (202) 564-4538; fax at (202) 501-0582; or via e-mail at winston.mary@epa.gov.

A copy of the draft agenda for each meeting will be posted on the SAB Website (www.epa.gov/sab) (under the AGENDAS subheading) approximately 10 days before that meeting.

Availability of Review Materials

There are seven sponsoring federal agencies, commissions and departments (US Environmental Protection Agency, US EPA; US Department of Energy, DOE; US Nuclear Regulatory Commission, NRC; US Department of Defense, DoD; US National Institutes of Standards and Technology, NIST; US Geologic Survey, USGS; and the US Food and Drug Administration, FDA), and two state representatives (California and Kentucky) for the documents that are the subject of the review. The review document is available electronically at the following site http://www.eml.doe/marlap/. For questions and information pertaining to the review document, please contact Dr. Mary E. Clark, Assistant Director, Office of Radiation and Indoor Air (6601), U.S. Environmental Protection Agency, 1200 Pennsylvania Ave, NW., Washington, DC 20460; tel. (202) 564-9348, FAX (202) 565-2043, e-mail: clark.marye@epa.gov. Dr. Clark will refer you to the appropriate agency, commission or department contact for the particular issue of interest. The review document which is the subject of this review is cited as follows:

Multi-Agency Radiological Laboratory Analytical Protocols (MARLAP) Manual, Volume I: Chapters 1-9, and Volume II: Chapters 10-20 and Appendices, NUREG-1576; EPA 402-B-01-003; NTIS PB2001-106745, August 2001.

The above document and any comments received to date on a previous Federal Register solicitation (see 66 FR, Vol. 66, No. 170, pgs. 45972 to 45974, Aug 31, 2001; see also http://www.epa.gov/rpdweb00/marlap/index.html) can be viewed at the US Environmental Protection Agency, Office of Air and Radiation Docket (Docket Number A-2001-16), Room M1500, 401 M Street, SW, Washington, DC 20460, Tel. (202) 260-7548.

Charge to the Panel

The focus of the review will be on the following charge questions:

Charge Question #1: Is the overall approach presented in part I of MARLAP for the planning implementation and assessment phases of projects which require analysis for radionuclides technically acceptable?

(1a) Is the performance-based approach presented clearly and logically?

(1b) Is the approach reasonable in terms of ease of implementation?

(1c) Does the approach effectively link the three phases (planning, implementation, and assessment) of a project?

Charge Question #2: Is the guidance on laboratory operations in the Part II chapters technically accurate? Does it provide a useful resource base of information for a laboratory's implementation of a performance-based approach?

Charge Question #3: Is the guidance on measurement statistics—specifically measurement uncertainty and detection and quantification capability—technically accurate, clearly presented, and useful for implementation by appropriately trained personnel?, and

Charge Question #4: What are the overall Integration and Implementation Issues?

Note: This charge question was added by the MARLAP Review Panel.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

General Information

Additional information concerning the EPA Science Advisory Board, its structure, function, and composition, may be found on the SAB Website (http://www.epa.gov/sab) and in The FY2001 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact Dr. Kooyoomjian at least five business days prior to the meeting so that appropriate arrangements can be made.

Dated: March 5, 2002.
Donald G. Barnes,
Staff Director, EPA Science Advisory Board.

[FR Doc. 02-6066 Filed 3-12-02; 8:45 am]

BILLING CODE 6560-50-P